DEPARTMENT OF AGRICULTURE

Animal and Plant Health Inspection Service

[Docket No. 04-040-1]

Availability of an Environmental Assessment for a Biological Control Agent for Old World Climbing Fern

AGENCY: Animal and Plant Health Inspection Service, USDA.

ACTION: Notice of availability and request for comments.

SUMMARY: We are advising the public that the Animal and Plant Health Inspection Service has prepared an environmental assessment relative to the control of Old World climbing fern, Lygodium microphyllum. The environmental assessment considers the effects of, and alternatives to, the release of a nonindigenous moth, Cataclysta camptozonale, for the biological control of Old World climbing fern in Florida. We are making the environmental assessment available to the public for review and comment.

DATES: We will consider all comments that we receive on or before August 2, 2004.

ADDRESSES: You may submit comments by any of the following methods:

• Postal Mail/Commercial Delivery: Please send four copies of your comment (an original and three copies) to Docket No. 04-040-1, Regulatory Analysis and Development, PPD, APHIS, Station 3C71, 4700 River Road Unit 118, Riverdale, MD 20737-1238. Please state that your comment refers to Docket No. 04-040-1.

• E-mail: Address your comment to regulations@aphis.usda.gov. Your comment must be contained in the body of your message; do not send attached files. Please include your name and address in your message and “Docket No. 04-040-1” on the subject line.

• Agency Web site: Go to http://www.aphis.usda.gov/ppd/rad/cominst.html for a form you can use to submit an e-mail comment through the APHIS Web site.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information, including the names of groups and individuals who have commented on APHIS dockets, on the Internet at http://www.aphis.usda.gov/ppd/rad/webrepor.html.

FOR FURTHER INFORMATION CONTACT: Dr. Robert Flanders, Branch Chief, Biological and Technical Services, Pest Permit Evaluations, Plant Protection and Quarantine, APHIS, 4700 River Road Unit 133, Riverdale, MD 20737-1236; (301) 734-5930.

SUPPLEMENTARY INFORMATION:

Background

Old World climbing fern, Lygodium microphyllum (Cav.) R. Br. (Lygodiaceae), is a climbing fern that has a large native range that extends through much of the Old World tropics. It has become established in central and southern peninsular Florida where it grows in a number of wetland and mesic (having a moderate supply of moisture) habitats including hammocks, cypress swamps, flatwoods, bayheads, and disturbed sites.

The climbing fern is a highly invasive, exotic weed that climbs over plants, including tall trees, to form massive walls of vegetation. It also forms thick mats on the ground that smother native plants. New infestations can arise great distances from existing populations because the weed produces millions of spores that are spread by wind and other physical carriers. A single spore is capable of starting a new infestation.

In Florida, the potential distribution of this weed includes all habitats from Lake Okeechobee south. It also has the potential to invade the Gulf Coast of Mexico and southern Texas.

The Plant Protection and Quarantine (PPQ) program of the Animal and Plant Health Inspection Service (APHIS) has received a permit application for the release of a nonindigenous moth, Cataclysta camptozonale (Hampson) (Lepidoptera: Crambidae), for the biological control (biocontrol) of Old World climbing fern in Florida. The purpose of the proposed release is to reduce the severity of infestations of L. microphyllum in Florida.

The proposed biocontrol agent, C. camptozonale, is a moth in the insect family Crambidae and is native to Australia. The moth is self-replicating. The adult moth lays eggs in small clusters on leaflets of the target weed, L. microphyllum, and the eggs hatch in 6 to 7 days. Larvae feed on the leaves of L. microphyllum for approximately 11 to 12 days. Older larvae spin a loose web of silk on leaves of the weed and pupate. Pupae develop to adults in 7 to 9 days.

The moth is also host specific. Host specificity tests conducted in Australia and Florida indicate that C. camptozonale is specific to a few Lygodium species.

Therefore, APHIS is considering issuing a permit for the release of C. camptozonale into the continental United States in order to reduce the severity and extent of Old World climbing fern infestation. APHIS' review and analysis of the proposed action and its alternatives are documented in detail in an environmental assessment (EA) entitled, “Field Release of Cataclysta camptozonale (Lepidoptera: Crambidae), an Insect for Biological Control of Old World Climbing Fern (Lygodium microphyllum), in the Continental United States” (April 2004). We are making the EA available to the public for review and comment. We will consider all comments that we receive on or before the date listed under the heading DATES at the beginning of this notice.

The EA may be viewed on the Internet at http://www.aphis.usda.gov/ppq/. In the middle of that page, click on “Document/Forms Retrieval System.” At the next screen, click on the triangle beside “Permits—Environmental Assessments.” A list of documents will appear; the EA for Old World climbing fern is document number 0038. You may request paper copies of the EA by calling or writing to the person listed under FOR FURTHER INFORMATION CONTACT. Please refer to the title of the EA when requesting copies. The EA is also available for review in our reading room (information on the location and hours of the reading room is listed under the heading ADDRESSES at the beginning of this notice).

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 25th day of June 2004.
Peter Fernandez,
Acting Administrator, Animal and Plant Health Inspection Service.

[FR Doc. 04-14981 Filed 6-30-04; 8:45 am]

BILLING CODE 3410-34-P